DEPARTMENT OF STATE

[Public Notice 7976]

30-Day Notice of Proposed Information Collection: Civilian Response Corps Database In-Processing Electronic Form, OMB Control Number 1405-0168, Form DS-4096

ACTION: Notice of request for public comment and submission to OMB of proposed collection of information.

SUMMARY: The Department of State has submitted the following information collection request to the Office of Management and Budget (OMB) for approval in accordance with the Paperwork Reduction Act of 1995.

• Title of Information Collection: Civilian Response Corps Database In-Processing Electronic Form.

• OMB Control Number: 1405-0168.

• Type of Request: Extension of a Currently Approved Collection.

• Originating Office: Bureau of Conflict and Stabilization Operations (CSO).

• Form Numbers: DS-4096.

• Respondents: Individuals who are members of or apply for one or more of the three components of the Civilian Response Corps (Active, Standby and Expert Corps).

• Estimated Number of Respondents: 2,000 per year.

• Estimated Number of Responses: 2,000 per year.

• Average Hours per Response: 1 hour.

• Total Estimated Burden: 2,000 Hours.

• Frequency: On occasion.

• Obligation To Respond: Required to receive benefits.

DATES: Submit comments to the Office of Management and Budget (OMB) for up to 30 days from August 9, 2012.

ADDRESSES: You may submit comments and request for further information by either of the following methods:

• Email: CRCcomments@state.gov.

• Mail (paper, disk, or CD-ROM submissions): CRC Comments, Suite 1150, 1800 North Kent Street, Rosslyn, VA 22202.

You must include the DS form number (if applicable), information collection title, and OMB control number in any correspondence.

FOR FURTHER INFORMATION CONTACT: You may obtain copies of the proposed information collection and supporting documents from John Tuten CRC Comments, Suite 1150, 1800 North Kent Street, Rosslyn, VA 22202, who may be reached on 571-344-6024 or at tutenjc@state.gov.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The information collected is an important part of the Department's responsibility to coordinate U.S. Government planning; institutionalize U.S. conflict prevention and stabilization capacity; and help stabilize societies in transition from conflict or civil strife so they can reach a sustainable path toward peace, democracy, and a market economy. The information gathered will be used to identify Civilian Response Corps members who are available to participate in CRC missions.

Methodology

Respondents will complete an electronic DS-4096 application via the Web site (www.crs.state.gov).

Dated: August 2, 2012.
Scott N. Decker,
Deputy Director, Office of Civilian Response Corp, Bureau of Conflict & Stabilization Operations, Department of State.

[FR Doc. 2012-19562 Filed 8-8-12; 8:45 am]

BILLING CODE 4710-10-P